DEPARTMENT OF THE INTERIOR

Bureau of Indian Affairs

Plan for the Use and Distribution of Mescalero Apache Judgment Funds in Docket No. 92-403L

AGENCY: Bureau of Indian Affairs, Interior.

ACTION: Notice.

SUMMARY: Notice is hereby given that the plan for the use and distribution of the judgment funds awarded to the Mescalero Apache Tribe in Docket No. 92-403L is effective as of March 20, 2004. The judgment fund was awarded by the United States Court of Federal Claims on January 31, 2002, and appropriated on February 25, 2002.

FOR FURTHER INFORMATION CONTACT: Daisy West, Bureau of Indian Affairs, Division of Tribal Government Services, Mail Stop 320-SIB, 1951 Constitution Avenue, NW., Washington, DC 20240. Telephone number: (202) 513-7641.

SUPPLEMENTARY INFORMATION: On December 17, 2003, the plan for the use and distribution of the funds was submitted to Congress pursuant to section 137 of the Act of November 10, 2003, Pub. L. 108-108, 117 Stat. 1241, and the Indian Tribal Judgment Fund Act, 25 U.S.C. 1401 et seq. Receipt of the plan by the House of Representatives and the Senate was recorded in the Congressional Record on January 20, 2004. On March 20, 2004, the plan became effective because a joint resolution disapproving it was not enacted. The plan reads as follows:

Plan

For the Use and Distribution of Mescalero Apache Tribe Judgment Funds in Docket 92-403L

The funds appropriated on February 25, 2002, in satisfaction of an award granted to the Mescalero Apache Tribe in Docket 92-403L before the United States Court of Federal Claims (Court), including all interest and investment income accrued, less attorney fees and litigation expenses, shall be distributed as herein provided.

A. Per Capita Distribution

Fifty (50%) percent of the funds, including interest and investment income, shall be distributed in the form of per capita payments, as approved by the Tribal Council, in equal amounts to all persons who are enrolled members of the Mescalero Apache Tribe.

1. The per capita shares of living competent adults shall be paid directly to them.

2. The per capita shares of deceased individual beneficiaries shall be determined in accordance with 25 CFR part 15.

3. Per capita shares of legal incompetents and minors shall be handled as provided in 25 U.S.C. 1403(b)(3). The funds will be placed in IIM accounts and may be disbursed to the parents or legal guardian of such minors or legal incompetents in such amounts as may be necessary for the minor or legal incompetent's health, education, welfare, or emergencies under a plan or plans approved by the Secretary and the Tribal Council.

B. Programming

The remaining funds, including interest and investment income, shall be used for the following purposes. The Tribe may reallocate the funding amounts if the Tribe determines it necessary.

| (percent)
(A) Tribal Store Business Operations Improvement (est. $1,022,000) | 34.07
(B) Tribal Operational Activities (est. $1,978,000)
The Tribal Operational Activities programming funds shall be allocated by the Tribe for the following Tribal operational activities with amounts to be determined on a priority as-needed basis:
(1) Debt Service for principal and interest payments on loans related to capital projects for the new Mescalero Apache Tribe school, Nursing Home/Dialysis Center and other capital projects which require financing | 15.93
(2) Funding amounts for the Mescalero Apache Tribe Defined Benefit Pension Plan | 33.33
(3) Self-Funded Health Plan Benefit Payments | 16.67

C. General Provisions

Funds distributed under this plan shall not be liable for the payment of previously contracted obligations of any recipient as provided in 25 U.S.C. 117b(a). None of the funds distributed per capita or made available under this plan for programming shall be subject to Federal or State income taxes, nor shall such funds nor their availability be considered as income or resources nor otherwise utilized as the basis for denying or reducing the financial assistance or other benefits to which such household or member would otherwise be entitled under the Social Security Act, or except for per capita shares in excess of $2,000 any Federal or federally assisted programs.

Michael D. Olsen,
Acting Principal Deputy, Assistant Secretary—Indian Affairs.

[FR Doc. 04-25046 Filed 11-9-04; 8:45 am]

BILLING CODE 4310-4J-P